DEPARTMENT OF AGRICULTURE

National Agricultural Library

Notice of Intent To Seek Approval To Collect Information

AGENCY: Agricultural Research Service, National Agricultural Library, USDA.

ACTION: Notice and Request for comments.

SUMMARY: In accordance with the Paperwork Reduction Act of 1995 (Pub. L. 104-13) and Office of Management and Budget (OMB) regulations at 5 CFR part 1320, this notice announces the National Agricultural Library's intent to request approval for renewal of an information collection relating to existing nutrition education and training materials targeting low-income persons. This voluntary form gives Supplemental Nutrition Assistance Program Education (SNAP-Ed) providers the opportunity to share resources that they have developed or used.

DATES: Comments on this notice must be received by 65 days after date of publication in the Federal Register to be assured of consideration.

ADDRESSES: Address all comments concerning this notice to Gina Hundley Gomez, Technical Information Specialist, Food and Nutrition Information Center, National Agricultural Library, 10301 Baltimore Avenue, Beltsville, MD 20705-2351, telephone (301) 504-5414 or fax (301) 504-6409.

Submit electronic comments to gina.hundley@ars.usda.gov

FOR FURTHER INFORMATION CONTACT: gina.hundley@ars.usda.gov

SUPPLEMENTARY INFORMATION: Title: SNAP-Ed Connection Resource Sharing Form.

OMB Number: PRA# 0518-0031.

Expiration Date: Three years from date of approval.

Type of Request: Renewal of existing data collection from SNAP-Ed providers, data collection previously titled the Food Stamp Nutrition Connection Sharing Form.

Abstract: This voluntary “Sharing Form” gives SNAP-Ed providers the opportunity to share information about resources that they have developed or used. Data collected using this form help the Food and Nutrition Information Center (FNIC) identify existing nutrition education and training resources for review and inclusion in an online database. Educators can search this database via the SNAP-Ed Connection Web site http://snap.nal.usda.gov. In 2001, the United States Department of Agriculture's (USDA) Food and Nutrition Service established the Food Stamp Nutrition Connection to improve access to Food Stamp Program nutrition resources. Educators nationwide can use this site to identify curricula, lesson plans, research, training tools and participant materials. In 2008, the Food Stamp Program was renamed the Supplemental Nutrition Assistance Program and the Food Stamp Nutrition Connection Web site became the SNAP-Ed Connection. Developed and maintained at the National Agricultural Library's FNIC, this resource system helps educators find the tools and information they need to provide quality nutrition education for low-income audiences.

The Sharing Form is available for completion online at the SNAP-Ed Connection Web site. Individuals may also print the form and return it via fax or mail. The form consists of four parts. These various sections include: Part 1 consisting of three questions about the responder; Part 2 with nine questions about the resource; Part 3 with five questions about the resource development; and Part 4 with six questions about ordering/obtaining the resource. Responders are asked to complete only relevant sections of the form. Instructions about which sections to complete, based on one's relationship to the resource, are provided in Part 1. For instance, those that use the resource but are neither its developer or distributor would only complete Parts 1 and 2.

This form enables FNIC to inform nutrition educators of existing nutrition education and training materials targeting low-income Americans. This identification of existing materials will help educators spend their monies wisely by reducing duplication of efforts in nutrition education material development and by aiding in identifying areas of need for nutrition education resource development.

Estimate of Burden: Public reporting burden for this collection of information is estimated to average 19 minutes per response.

Respondents: SNAP-Ed providers.

Estimated Number of Respondents: 50 per year.

Estimated Total Annual Burden on Respondents: 16 hrs.

Copies of this information collection and related instructions may be obtained without charge from the SNAP-Ed Connection Sharing Center at http://www.nal.usda.gov/fsn/sharing_center_submission.shtml.

Comments

Comments are invited on (a) Whether the proposed collection of information is necessary for the proper performance for the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: March 3, 2011.
Caird E. Rexroad, Jr,
Associate Administrator, ARS.

[FR Doc. 2011-6437 Filed 3-17-11; 8:45 am]

BILLING CODE 3410-03-P